DEPARTMENT OF AGRICULTURE

Food and Nutrition Service

Agency Information Collection Activities: Proposed Collection; Comment Request—Negative QC Review Schedule, Status of Sample Selection of Completion

AGENCY: Food and Nutrition Service, USDA.

ACTION: Notice.

SUMMARY: In accordance with the Paperwork Reduction Act of 1995, this notice invites the general public and other public agencies to comment on the proposed information collections for the FNS-245, Negative Case Action Review Schedule and FNS-248, Status of Sample Selection and Completion. The forms are currently used in the Quality Control process for the Supplemental Nutrition Assistance Program. The proposed collection is a revision of a collection currently approved under OMB No. 0584-0034.

DATES: Written comments must be submitted on or before October 5, 2009.

ADDRESSES: Comments are invited on: (a) Whether the proposed collection of information is necessary for the proper performance of the functions of the agency, including whether the information has practical utility; (b) the accuracy of the agency's estimate of the burden of the proposed collection of information, including the validity of the methodology and assumptions used; (c) ways to enhance the quality, utility, and clarity of the information to be collected; (d) ways to minimize the burden of the collection of information on those who are to respond, including the use of appropriate automated, electronic, mechanical, or other technological collection techniques or other forms of information technology.

Comments may be sent to: Tiffany Susan Wilkinson, Program Analyst, Quality Control Branch, Program Accountability and Administration Division, Food and Nutrition Service, U.S. Department of Agriculture, 3101 Park Center Drive, Room 822, Alexandria, VA 22302. You may also download an electronic version of this notice at http://www.fns.usda.gov/fsp/rules/regulations/default.htm and comment via e-mail at SNAPHQ-Web@fns.usda.gov or use the Federal e-Rulemaking Portal. Go to http://www.regulations.gov and follow the online instructions for submitting comments electronically.

All written comments will be open for public inspection at the office of the Food and Nutrition Service during regular business hours (8:30 a.m. to 5 p.m. Monday through Friday) at 3101 Park Center Drive, Room 822, Alexandria, Virginia 22302.

All responses to this notice will be included in the request for Office of Management and Budget approval. All comments will also become a matter of public record.

FOR FURTHER INFORMATION CONTACT: Requests for additional information or copies of the information collection form and instruction should be directed to Tiffany Susan Wilkinson, (703) 305-2410.

SUPPLEMENTARY INFORMATION: Title: Negative Quality Control Review Schedule.

OMB Number: 0584-0034.

Form Number: FNS-245 and 248.

Expiration Date: November 30, 2009.

Type of Request: Revision of currently approved collections.

The FNS-245, Negative Case Action Review Schedule:

Abstract: The FNS-245, Negative Case Action Review Schedule, is designed to collect quality control (QC) data and serve as the data entry form for negative case action QC reviews in the Supplemental Nutrition Assistance Program (SNAP). State agencies complete the FNS-245 for each negative case in their QC sample. The reporting and recordkeeping burden associated with the completion of the FNS-245 has decreased from 123,374 hours to 117,651 hours. The 5,723 hour decrease is a result of a reduction in the total case selection from 39,782 in FY 2004 to 38,911 in FY2007.

Affected Public: State or Local Governments.

Estimated Number of Respondents: 53 State Agencies.

Estimated Number of Responses per Respondent: 734.17 Records.

Estimated Total Annual Response: 38,911.

Estimated Time per Report: 3.0236 Hours.

Estimated Total Annual Reporting Burden: 117,651 Hours.

The FNS-248, Status of Sample Selection and Completion:

Abstract: The FNS-248, Status of Sample Selection and Completion, tracks a State's progress in sample selection and case completion on a monthly basis. A proposed rule entitled “Food Stamp Program: Discretionary Quality Control Provisions of Title IV of Public Law 107-171”, was published in the Federal Register on September 23, 2005 (70 FR 55776). The rulemaking proposed to eliminate this form as a means of collecting this information and would allow State agencies to report in a manner as directed by the regional offices. FNS expects to publish a final rule on this subject in 2010. Until then, the use of FNS-248 will be discontinued because the data collected has decreased to only four elements: Active and Negative Sampling Intervals and Active and Negative Number of Sample Cases Selected. These elements must be reported monthly by the States, but may be sent through various mediums to their regional offices. The annual reporting and recordkeeping burden associated with this new way of collecting the four elements significantly decreases the burden from 348 hours to approximately 64 hours.

Affected Public: State or local governments.

Estimated Number of Respondents: 53.

Estimated Number of Reports per Respondent: 12.

Estimated Number of Recordkeeping per Respondent: 12.

Estimated Total Annual Response: 636.

Estimated Time Reporting per Response: .0835 Hours.

Estimated Total Reporting Annual Burden: 53.106 Hours.

Estimated Time Recordkeeping per Response: .0167 Hours.

Estimated Total Recordkeeping Annual Burden: 10.6212 Hours.

Total Annual Reporting and Recordkeeping Burden: 63.7272 Hours.

Grand Total for Reporting: 117,704.

Grand Total for Recordkeeping: 10.62.

Grand Total Reporting and Recordkeeping Burden: 117,714.62.

Dated: July 29, 2009.
Julia Paradis,
Administrator, Food and Nutrition Service.

[FR Doc. E9-18562 Filed 8-3-09; 8:45 am]

BILLING CODE 3410-30-P